DEPARTMENT OF ENERGY

Energy Information Administration

Agency Information Collection Activities: Proposed Change of Disclosure Information From Protected to Public

AGENCY: Energy Information Administration (EIA), Department of Energy (DOE).

ACTION: Agency Information Collection Activities: Proposed Public Release of Past Responses; Comment Request.

SUMMARY: The EIA proposes to change the data confidentiality protection provisions for data collected from the “Annual Nonutility Power Producer Report” Form EIA-867.

DATES: Comments must be filed by September 27, 2010. If you anticipate difficulty in submitting comments within that period, contact the person listed below as soon as possible.

ADDRESSES: Send comments to Christopher Cassar. To ensure receipt of the comments by the due date, submission by FAX (202-287-1938) or e-mail (EIA-867@eia.doe.gov) is recommended. The mailing address is Christopher Cassar, EI-53, Forrestal Building, U.S. Department of Energy, 1000 Independence Ave., SW., Washington, DC 20585. Alternatively, Christopher Cassar may be contacted by telephone at 202-586-5448.

FOR FURTHER INFORMATION CONTACT: Requests for additional information should be directed to Christopher Cassar at the address listed above.

SUPPLEMENTARY INFORMATION:

I. Background

II. Current Actions

III. Request for Comments

I. Background

The Form EIA-867, “Annual Nonutility Power Producer Report” was used to collect data from the nonutility electricity generator sector from 1989 through 1997. The data collected on the survey form included plant-level electric power production and consumption data. The survey also collected ownership statistics such as, company name, number of electric generating facilities owned, and contact person name, title, and telephone number. From 1989 through 1997, EIA collected some information as public and non-confidential and other data such as fuels consumed, generation, purchases of electricity, sales, electricity used at the facility, number and type of customers, maximum contract amount by customer, deliveries by customer, environmental information, and electric generator information as confidential. EIA stated in its survey instructions that it would protect the information to the extent that it satisfied the criteria for exemption under the Freedom of Information Act (FOIA), 5 U.S.C. 552, the Department of Energy (DOE) regulations, 10 CFR 1004.11 implementing the FOIA, and the Trade Secrets Act, 18 U.S.C. 1905.

After 1997, the industry became deregulated and many plants previously categorized as “utility plants” were divested by utilities, and moved into the “nonutility” sector as independent power producers. Those facilities were accustomed to EIA's publicly disclosing information that was collected on Form EIA-867. On January 13, 1998, EIA published a Federal Register Notice (Volume 63, Number 8) to solicit comments on what electric power data should be treated as non-confidential and be available for dissemination in company-specific form and what electric power data should be treated as confidential by EIA and not disclosed in identifiable form. Based on the comments received from the electric power producers and data users, EIA made the decision to treat the information collected on Form EIA-867 as public information and began releasing plant-level electric power production and consumption data from its Web site beginning with data collected from January 1, 1998.

II. Current Actions

The Form EIA-867 survey was discontinued December 31, 1998, and the data elements were merged into Form EIA-860. Beginning with the collection of 1998 data on January 1, 1999, these data elements are treated as public information. EIA now proposes to treat all data submitted on Form EIA-867 from 1989 through 1997 data as public information and release it on EIA's Web site.

III. Request for Comments

Past respondents to Form EIA-867 and other interested parties should comment on the actions discussed in item II. Comments submitted in response to this notice will be considered before EIA changes the disclosure status.

Statutory Authority: Section 13(b) of the Federal Energy Administration Act of 1974, Public Law 93-275, codified at 15 U.S.C. 772(b).

Issued in Washington, DC, July 21, 2010.
Stephanie Brown,
Director, Statistics and Methods Group, Energy Information Administration.

[FR Doc. 2010-18356 Filed 7-26-10; 8:45 am]

BILLING CODE 6450-01-P